DEPARTMENT OF TRANSPORTATION

Surface Transportation Board

[STB Finance Docket No. 34139]

Butler County, Kansas—Acquisition Exemption—The Burlington Northern and Santa Fe Railway Company

Butler County, Kansas (County), a noncarrier, has filed a verified notice of exemption under 49 CFR 1150.31 to acquire (by donation) approximately 10.6 miles of rail line from The Burlington Northern and Santa Fe Railway Company (BNSF).¹ The line is located between milepost 483.62, at Augusta, KS, and milepost 494.22 near Andover, KS. The County certifies that its projected annual revenues as a result of this transaction will not result in its becoming a Class II or Class I rail carrier. The County further certifies that its annual freight revenues as a result of this transaction will not exceed $5 million.

¹ The County states that the line is currently out of service and will be rehabilitated after the acquisition is consummated. The County further states that it is its intent to have the above line operated by a yet-to-be determined third party rail operator. Anticipated rail operations by a third party over BNSF's trackage are subject to the Board's approval or exemption.

The transaction was expected to be consummated on or shortly after December 19, 2001, the effective date of the exemption.

If this notice contains false or misleading information, the exemption is void ab initio. Petitions to revoke the exemption under 49 U.S.C. 10502(d) may be filed at any time. The filing of a petition to revoke does not automatically stay the transaction.

An original and 10 copies of all pleadings, referring to STB Finance Docket No. 34139, must be filed with the Surface Transportation Board, Office of the Secretary, Case Control Unit, 1925 K Street, NW., Washington, DC 20423-0001. In addition, a copy of each pleading must be served on Karl Morell, Ball Janik LLP, Suite 225, 1455 F Street, NW., Washington, DC 20005.

Board decisions and notices are available on our website at “WWW.STB.DOT.GOV.”

Decided: January 3, 2002.
By the Board, David M. Konschnik, Director, Office of Proceedings.
Vernon A. Williams,
Secretary.

[FR Doc. 02-534 Filed 1-10-02; 8:45 am]

BILLING CODE 4915-00-P